DEPARTMENT OF HOMELAND SECURITY

Coast Guard

[Docket No. USCG-2022-0201]

Area Maritime Security Advisory Committee (AMSC) for Prince William Sound, AK

AGENCY: Coast Guard, DHS.

ACTION: Solicitation for membership.

SUMMARY: This notice requests individuals interested in serving on the Prince William Sound Area Maritime Security Advisory Committee (AMSC) submit their applications for membership to the Captain of the Port Prince William Sound.

DATES: Requests for membership should reach the U.S. Coast Guard Captain of the Port Prince William Sound by April 15th, 2022.

ADDRESSES: Applications for membership should be submitted to the Captain of the Port Prince William Sound at the following address: Jason.A.Smilie@uscg.mil.

FOR FURTHER INFORMATION CONTACT: For questions about submitting an application or about the AMSC in general, contact Dr. Jason Smilie, Prince William Sound Port Security Specialist at (907) 835-7266 or Jason.A.Smilie@uscg.mil.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees (AMSCs) for any port area of the United States. (See 33 U.S.C. 1226; 46 U.S.C. 70112; 33 CFR 1.05-1, 6.01; Department of Homeland Security Delegation No. 0170.1). The MTSA includes a provision exempting these AMSCs from the Federal Advisory Committee Act (FACA), Public Law 92-436, 86 Stat. 470 (5 U.S.C. App.2).

The AMSCs assists the Captain of the Port Prince William Sound (COTP) in the development, review, update, and exercising of the Area Maritime Security Plan (AMS Plan) for their area of responsibility. Such matters may include, but are not limited to:

• Identifying critical port infrastructure and operations;

• Identifying risks (threats, vulnerabilities, and consequences);

• Determining mitigation strategies and implementation methods;

• Developing strategies to facilitate the recovery of the MTS after a Transportation Security Incident;

• Developing and describing the process to continually evaluate overall port security by considering consequences and vulnerabilities, how they may change over time, and what additional mitigation strategies can be applied; and

• Providing advice to, and assisting the Captain of the Port in developing and maintaining the AMS Plan.

AMSC Composition

The composition of an AMSC is prescribed under 33 CFR 103.305. Pursuant to that regulation, members may be selected from the Federal, Territorial, or Tribal government; the State government and political subdivisions of the State; local public safety, crisis management, and emergency response agencies; law enforcement and security organizations; maritime industry, including labor; other port stakeholders having a special competence in maritime security; and port stakeholders affected by security practices and policies. Members of the AMSC should have at least five years of experience related to maritime or port security operations.

AMSC Membership

The Prince William Sound AMSC is seeking to fill 7 positions with this solicitation.

Applicants may be required to pass an appropriate security background check prior to appointment to the committee. Members' terms of office will be for five years; however, a member is eligible to serve additional terms of office. Members will not receive any salary or other compensation for their service on an AMSC. In support of the USCG policy on gender and ethnic diversity, we encourage qualified women and members of minority groups to apply.

Request for Applications

Those seeking membership are requested to submit resumes highlighting their requisite experiences in the maritime and security industries to the address indicated in the ADDRESSES section of this notice.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

Dated: March 1, 2022.
P.A. Drayer,
Commander, United States Coast Guard, Captain of the Port/Federal Maritime Security Coordinator Valdez.

[FR Doc. 2022-04847 Filed 3-7-22; 8:45 am]

BILLING CODE 9110-04-P